DEPARTMENT OF DEFENSE

Office of the Secretary

[Transmittal No. 24-08]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-08, Policy Justification, and Sensitivity of Technology.

Dated: November 13, 2025.
Aaron T. Siegel,
Alternate OSD Federal Register Liaison Officer, Department of Defense.

Transmittal No. 24-08

Notice of Proposed Issuance of Letter of Offer Pursuant to Section 36(b)(1) of the Arms Export Control Act, as amended

(i) Prospective Purchaser: Government of Israel

(ii) Total Estimated Value:

Major Defense Equipment * | $66.0 million
Other | $36.5 million
TOTAL | $102.5 million

Funding Source: Foreign Military Financing

(iii) Description and Quantity or Quantities of Articles or Services under Consideration for Purchase:

Major Defense Equipment (MDE):

Thirty (30) AIM-120C-8 Advanced Medium Range Air-to-Air Missiles (AMRAAM)

One (1) AMRAAM guidance section (spare)

Non-MDE:

The following non-MDE items will also be included: AMRAAM control sections and containers; Common Munitions Built-In-Test/Reprogramming Equipment (CMBRE); ADU-891/E Adapter Group Computer Test Sets; spare parts, consumables, accessories, repair and return support, classified and unclassified publications, and technical documentation; classified software delivery and support; munitions support and support equipment; test support and support equipment; personnel training and training equipment; warranties; studies and surveys; U.S. Government and contractor engineering, technical, and logistics support services; and other related elements of logistics and program support.

(iv) Military Department: Air Force (IS-D-YAB)

(v) Prior Related Cases, if any: IS-D-MXP, IS-D-QFD, IS-D-YES

(vi) Sales Commission, Fee, etc., Paid, Offered, or Agreed to be Paid: None

(vii) Sensitivity of Technology Contained in the Defense Article or Defense Services Proposed to be Sold: See Attached Annex

(viii) Date Report Delivered to Congress: August 13, 2024

* as defined in Section 47(6) of the Arms Export Control Act.

Policy Justification

Israel—Advanced Medium Range Air-to-Air Missiles

The Government of Israel has requested to buy thirty (30) AIM-120C-8 Advanced Medium Range Air-to-Air Missiles (AMRAAM) and one (1) AMRAAM guidance section (spare). The following non-MDE items will also be included: AMRAAM control sections and containers; Common Munitions Built-In-Test/Reprogramming Equipment (CMBRE); ADU-891/E Adapter Group Computer Test Sets; spare parts, consumables, accessories, repair and return support, classified and unclassified publications, and technical documentation; classified software delivery and support; munitions support and support equipment; test support and support equipment; personnel training and training equipment; warranties; studies and surveys; contractor logistics support services; U.S. Government and contractor engineering, technical, and logistics support services; and other related elements of logistics and program support. The estimated total cost is $102.5 million.

The United States is committed to the security of Israel, and it is vital to U.S. national interests to assist Israel to develop and maintain a strong and ready self-defense capability. This proposed sale is consistent with those objectives.

The proposed sale will improve Israel's capability to meet current and future threats, strengthen its homeland defense, and serve as a deterrent to regional threats. Israel will have no difficulty absorbing these articles and services into its armed forces.

The proposed sale of this equipment and support will not alter the basic military balance in the region.

The prime contractor will be RTX Corporation, located in Tucson, AZ. The purchaser typically requests offsets. Any offset agreement will be defined in negotiations between the purchaser and the contractor.

Implementation of this proposed sale will require the assignment of three additional U.S. Government representatives and one U.S. contractor representative to Israel for a duration of approximately three years to support installation and integration of equipment, provide security for classified equipment, and provide technical assistance, familiarization, and training.

There will be no adverse impact on U.S. defense readiness as a result of this proposed sale.

Transmittal No. 24-08

Notice of Proposed Issuance of Letter of Offer Pursuant to Section 36(b)(1) of the Arms Export Control Act

Annex

Item No. vii

(vii) Sensitivity of Technology:

1. The AIM-120C-8 Advanced Medium Range Air-to-Air Missile (AMRAAM) is a supersonic, air-launched, aerial intercept guided missile featuring digital technology and micro-miniature, solid-state electronics. AMRAAM capabilities include look-down/shoot-down, multiple launches against multiple targets, resistance to electronic countermeasures, and interception of high- and low-flying and maneuvering targets. This potential sale will include an AMRAAM guidance section and control sections.

2. The ADU-891 Adapter Group Test Set provides the physical and electrical interface between the Common Munitions Built-in-Test (BIT)/Reprogramming Equipment (CMBRE) and the missile.

3. CMBRE is support equipment used to interface with weapon systems to initiate and report Built-in-Test results as well as upload and download flight software. CMBRE supports multiple munitions platforms with a range of applications that perform preflight checks, periodic maintenance checks, loading of Operational Flight Program (OFP) data, loading of munitions mission planning data, loading of global positioning system cryptographic keys, and declassification of munitions memory.

4. The highest level of classification of defense articles, components, and services included in this potential sale is SECRET.

5. If a technologically advanced adversary were to obtain knowledge of the specific hardware and software elements, the information could be used to develop countermeasures that might reduce weapon system effectiveness or be used in the development of a system with similar or advanced capabilities.

6. A determination has been made that Israel can provide substantially the same degree of protection for the sensitive technology being released as the U.S. Government. This sale is necessary in furtherance of the U.S. foreign policy and national security objectives outlined in the Policy Justification.

7. All defense articles and services listed in this transmittal have been authorized for release and export to Israel.

[FR Doc. 2025-20066 Filed 11-17-25; 8:45 am]

BILLING CODE 6001-FR-P